DEPARTMENT OF COMMERCE

International Trade Administration

[A-570-104, C-570-105]

Antidumping Duty Order on Alloy and Certain Carbon Steel Threaded Rod and Countervailing Duty Order on Carbon and Alloy Steel Threaded Rod From the People's Republic of China: Initiation and Preliminary Results of Changed Circumstances Reviews and Intent To Revoke the Antidumping and Countervailing Duty Orders, in Part, and Preliminary Intent To Rescind Scope Inquiry

AGENCY: Enforcement and Compliance, International Trade Administration, Department of Commerce.

SUMMARY: Based on a request from Logistical Resource Development Inc. (LRD), the U.S. Department of Commerce (Commerce) is initiating and issuing preliminary results of changed circumstances reviews (CCRs) of the antidumping duty (AD) order on alloy and certain carbon steel threaded rod and the countervailing duty (CVD) order on carbon and alloy steel threaded rod from the People's Republic of China (China) to revoke the orders, in part, with respect to certain products. We also preliminarily intend to rescind the scope inquiry with respect to the same products. Interested parties are invited to comment on these preliminary results.

DATES: Applicable October 15, 2024.

FOR FURTHER INFORMATION CONTACT: Allison Hollander, AD/CVD Operations, Office I, Enforcement and Compliance, International Trade Administration, U.S. Department of Commerce, 1401 Constitution Avenue NW, Washington, DC 20230; telephone: (202) 482-3004.

SUPPLEMENTARY INFORMATION:

Background

On April 9, 2020, the U.S. Department of Commerce (Commerce) published the Orders.¹ On August 23, 2024, LRD, an importer of subject merchandise, requested, through CCRs, that Commerce retroactively revoke the Orders, in part, pursuant to section 751(b)(1)(A) of the Tariff Act of 1930, as amended (the Act), and 19 CFR 351.216(b) with respect to certain wheels studs.² LRD stated that it qualifies as an importer of wheel studs currently subject to duties and, as such, is an interested party pursuant to section 771(9)(A) of the Act and 19 CFR 351.102(b)(29)(ii).³ On August 30, 2024, Vulcan Threaded Rod Products Inc. (the petitioner) submitted comments indicating that it does not oppose the partial scope revocation requested in LRD's CCR request.⁴

¹ See Alloy and Certain Carbon Steel Threaded Rod from the People's Republic of China: Antidumping Duty Order, 85 FR 19929 (April 9, 2020) (AD Order), and Carbon and Alloy Steel Threaded Rod from India and the People's Republic of China: Countervailing Duty Orders, 85 FR 19927 (April 9, 2020) (CVD Order) (collectively Orders).

² See LRD's Letter, “Request for an Expedited Changed Circumstances Review to Amend the Scope of the Order,” dated August 23, 2024 (CCR Request).

³ Id. at 1.

⁴ See Petitioner's Letter, “Petitioner's Comments on CCR Request,” dated August 30, 2024 (Petitioner's Comments).

On September 3, 2024, Commerce requested that LRD provide additional information related to its CCR Request.⁵ LRD timely responded to the questionnaire on September 17, 2024.⁶ In its CCR Supplement, LRD provided statements from three domestic producers, All Ohio Threaded Rod (All Ohio); Highland Thread, Inc. (Highland Thread); and Bay Standard Manufacturing Inc. (Bay Standard), indicating that they either were not interested in participating in the CCRs or were not contesting LRD's proposal.⁷ The petitioner timely responded to the supplemental questionnaire on September 17, 2024, and provided information on the production of domestic like product.⁸ On September 24, 2024, Commerce requested that LRD and the petitioner provide further supplemental information relating to production values of domestic producers.⁹ On September 24, 2024, the petitioner timely responded and demonstrated that it and All Ohio, Highland Thread, and Bay Standard collectively represent “substantially all” of the production of the domestic like product.¹⁰ No interested parties filed comments opposing the CCR Request. Further, LRD requested that Commerce conduct expedited CCRs.¹¹

⁵ Commerce requested LRD to provide a signed attestation from the petitioner and additional domestic producers, as necessary, indicating that these entities account for 85 percent of the industry by production volume. See Commerce's Letter, “Supplemental Questionnaire,” dated September 3, 2024.

⁶ See LRD's Letter, “Reply to Supplemental Questionnaire,” dated September 17, 2024 (LRD CCR Supplement).

⁷ Id. at Exhibits 1-3.

⁸ See Petitioner's Letter, “Vulcan's Attestation on Domestic Production,” dated September 17, 2024 (Vulcan CCR Supplemental). Given that the petitioner's production data is business proprietary information, the petitioner responded directly to Commerce.

⁹ See Commerce's Letters, “Second Supplemental Questionnaire,” dated September 24, 2024; and “Supplemental Questionnaire,” dated September 24, 2024.

¹⁰ See 19 CFR 222(g)(1)(i); see also Petitioner's Letter, “Vulcan's Supplemental Questionnaire Response,” dated September 27, 2024, at 2.

¹¹ See CCR Request at 1.

Scope of the Orders

Appendices I and II contain the scope of the AD Order and the scope of the CVD Order, respectively.

Proposed Partial Revocation of the Orders ¹²

¹² See Petitioner's Comments at 2-3; CCR Request at 4-5.

The products subject to the proposed partial revocation are certain wheel studs with the following characteristics:

• a wheel stud that has an M12 diameter and 1.5RH thread spacing threaded stud with a 6mm-wide inset hex head measuring 49mm long, part of the threaded length being divided by a 5mm unthreaded band which creates an 11.5mm threaded section for insertion that is also M12 diameter and 1.5RH thread spacing.

• a wheel stud that has an M12 diameter and 1.5RH thread spacing threaded stud with a 6mm-wide inset hex head measuring 49mm long, part of the threaded length being divided by a 5mm unthreaded band which creates an 11.5mm threaded section for insertion that is also M12 diameter and 1.5RH thread spacing.

• a wheel stud that has an M12 diameter and 1.5RH thread spacing threaded stud with a 6mm-wide inset hex head measuring 80mm, part of the threaded length being divided by a 5mm unthreaded band which creates an 11.5mm threaded section for insertion that is also M12 diameter and 1.5RH thread spacing.

• a wheel stud that has an M12 diameter and 1.5RH thread spacing threaded stud with a 6mm-wide inset hex head measuring 95mm long, part of the threaded length being divided by a 5mm unthreaded band which creates an 11.5mm threaded section for insertion that is also M12 diameter and 1.5RH thread spacing.

• a wheel stud that has an M14 diameter and 1.25RH thread spacing threaded stud with a 6mm-wide inset hex head measuring 75mm, part of the threaded length being divided by a 5mm unthreaded band which creates an 11.5mm threaded section for insertion that is also M14 diameter and 1.25RH thread spacing.

• a wheel stud that has an M14 diameter and 1.25RH thread spacing threaded stud with a 6mm-wide inset hex head measuring 92mm, part of the threaded length being divided by a 5mm unthreaded band which creates an 11.5mm threaded section for insertion that is also M14 diameter and 1.25RH thread spacing.

• a wheel stud that has an M12 diameter and 1.5RH thread spacing threaded stud with a 6mm-wide inset hex head measuring 49mm, part of the threaded length being divided by a 5mm unthreaded band which creates an 11.5mm threaded section for insertion that is M14 diameter and 1.5RH thread spacing.

• a wheel stud that has an M12 diameter and 1.5RH thread spacing threaded stud with a 6mm-wide inset hex head measuring 49mm, part of the threaded length being divided by a 5mm unthreaded band which creates an 11.5mm threaded section for insertion that is M14x1.25.

• a wheel stud that has an M12 diameter and 1.5RH thread spacing threaded stud with a 6mm-wide inset hex head measuring 44mm long, part of the threaded length being divided by a 5mm unthreaded band which creates an 11.5mm threaded section for insertion that is M14 diameter and 1.5 thread spacing.

• a wheel stud that has an M14 diameter and 1.5RH thread spacing threaded stud with a 6mm-wide inset hex head measuring 49mm long, part of the threaded length being divided by a 5mm unthreaded band which creates a 12.5mm threaded section for insertion that is also M14 diameter and 1.5RH thread spacing.

• a wheel stud that has an M14 diameter and 1.5RH thread spacing threaded stud with a 6mm-wide inset hex head measuring 64mm long, part of the threaded length being divided by a 5mm unthreaded band which creates and 21.5mm threaded section for insertion that is also M14 diameter and 1.5RH thread spacing.

• a wheel stud that has an M12 diameter and 1.5RH thread spacing threaded stud with a 6mm-wide inset hex head measuring 61mm long, part of the threaded length being divided by a 5mm unthreaded band which creates an 11.5mm threaded section for insertion.

• a wheel stud that has an M12 diameter and 1.5RH thread spacing threaded stud with a 6mm-wide inset hex head measuring 49mm long, part of the threaded length being divided by a 5mm unthreaded band which creates an 11.5mm threaded section for insertion that is M14 diameter and 1.5 thread spacing.

Initiation of CCRs

Pursuant to section 751(b)(1) of the Act, Commerce will conduct a CCR upon receipt of a request from an interested party that shows changed circumstances sufficient to warrant a review of the order. Section 782(h)(2) of the Act and 19 CFR 351.222(g)(1)(i) provide that Commerce may revoke an order (in whole or in part) if it determines that producers accounting for substantially all of the production of the domestic like product have expressed a lack of interest in the order, in whole or in part. In its administrative practice, Commerce has interpreted “substantially all” to mean producers accounting for at least 85 percent of the total U.S. production of the domestic like product covered by the order.¹³ Further, 19 CFR 351.222(g)(2) provides that Commerce will conduct a CCR under 19 CFR 351.216, and may revoke an order, in whole or in part, if it determines that revocation is warranted.

¹³ See, e.g., Certain Cased Pencils from the People's Republic of China: Initiation and Preliminary Results of Antidumping Duty Changed Circumstances Review, and Intent to Revoke Order in Part, 77 FR 42276 (July 18, 2012), unchanged in Certain Cased Pencils from the People's Republic of China: Final Results of Antidumping Duty Changed Circumstances Review, and Determination to Revoke Order, in Part, 77 FR 53176 (August 31, 2012).

In accordance with 19 CFR 351.216(d), Commerce determines that the information submitted by LRD, the petitioner, and other domestic producers, indicates that substantially all the domestic industry no longer has a continued interest in having the scope of the Orders cover certain wheel studs described above. Thus, there are changed circumstances sufficient to warrant a review of the Orders. Therefore, in accordance with section 751(b)(1) of the Act, 19 CFR 351.216(d), 19 CFR 351.221(c)(3), and 19 CFR 351.222(g), we are initiating these CCRs.

Preliminary Results of the CCRs and Intent To Revoke the Orders, in Part

Section 351.221(c)(3)(ii) of Commerce's regulations permits Commerce to combine the notice of initiation of a CCR and the notice of preliminary results if Commerce concludes that expedited action is warranted.¹⁴ In this instance, because the record contains information necessary to make a preliminary finding, we find that expedited action is warranted and have combined the notice of initiation and the notice of preliminary results.¹⁵

¹⁴ See 19 CFR 351.221(c)(3)(ii); see also Certain Pasta from Italy: Initiation and Preliminary Results of Antidumping Duty Changed Circumstances Review, 80 FR 33480, 33480-41 (June 12, 2015) (Pasta from Italy Preliminary Results), unchanged in Certain Pasta from Italy: Final Results of Changed Circumstances Review, 80 FR 48807 (August 14, 2015) (Pasta from Italy Final Results).

¹⁵ See, e.g., Pasta from Italy Preliminary Results, 80 FR at 33480-41, unchanged in Pasta from Italy Final Results, 80 FR at 48807.

Pursuant to section 751(d)(1) of the Act and 19 CFR 351.222(g), Commerce preliminarily determines that there is a reasonable basis to believe that changed circumstances exist sufficient to warrant partial revocation of the Orders. As explained above, domestic threaded rod producers accounting for greater than 85 percent of the domestic industry, including the original petitioner and other domestic threaded rod producers, have expressed no interest in opposing LRD's CCR Request.¹⁶ Substantially all of the domestic industry appears to have no interest in maintaining the Orders with respect to the specific products which are the subject of LRD's request.¹⁷ The domestic industry has not commented on whether the proposed partial scope revocation should be retroactive.

¹⁶ See LRD CCR Supplement at Exhibits 1-3; and Vulcan Supplemental Response at 2.

¹⁷ See LRD CCR Supplement at Exhibits 1-3; and Petitioner's Letter, “Comments on CCR Request,” dated August 30, 2024, at 2.

In light of the domestic producers' statements of no interest in opposing the revocation of the Orders, in part, with respect to the wheel studs as described by LRD, and in the absence of any other interested party comments addressing the issue of domestic industry support, we preliminarily conclude that producers accounting for substantially all of the production of the domestic like product to which the Orders pertain lack interest in the relief provided by the Orders with respect to wheel studs that are the subject of LRD's revocation request. Thus, we preliminarily determine that changed circumstances warrant revocation of the Orders, in part, with respect to such wheel studs as described above by LRD. Accordingly, we are notifying the public of our intent to revoke the Orders, in part, with respect to wheel studs described in the “Proposed Partial Revocation of the Orders” section above.

Additionally, LRD requested that Commerce find this scope exclusion applies retroactively to January 1, 2022. If we make a final determination to revoke the Orders in part, we intend to apply the partial revocation to unliquidated entries of merchandise subject to the CCRs that were entered or withdrawn from warehouse, for consumption, as of January 1, 2022.

Intent To Rescind Scope Inquiry

On December 22, 2024, Commerce received a request for a scope ruling from LRD on whether the same thirteen wheel studs described above are subject to the Orders.¹⁸ Commerce initiated this scope inquiry on January 22, 2024.¹⁹ Because these 13 wheel studs are the subject of this CCR, and we preliminarily intend to revoke the Orders, in part, with respect to these 13 wheels studs, we also preliminarily intend to rescind the scope inquiry, in accordance with 19 CFR 351.225(f)(6).

¹⁸ See LRD's Letters, “Application for a Scope Ruling for Wheel Studs on Alloy and Certain Threaded Rod from the People's Republic of China,” dated December 22, 2023.

¹⁹ See Memorandum, “Initiation of Scope Inquiries on Wheel Studs,” dated January 22, 2024.

Public Comment

In accordance with 19 CFR 351.309(c)(1)(ii), interested parties may submit case briefs not later than 14 days after the date of publication of this notice.²⁰ Rebuttal briefs, limited to issues raised in the case briefs, may be filed no later than five days after the due date for case briefs.²¹

²⁰ Commerce is exercising its discretion under 19 CFR 351.309(c)(1)(ii) to alter the time limit for the filing of case briefs.

²¹ See 19 CFR 351.309(d); see also Administrative Protective Order, Service, and Other Procedures in Antidumping and Countervailing Duty Proceedings, 88 FR 67069, 67077 (September 29, 2023) (APO and Service Final Rule).

As provided under 19 CFR 351.309(c)(2) and (d)(2), in prior proceedings we have encouraged interested parties to provide an executive summary of their brief that should be limited to five pages total, including footnotes. In these CCRs, we instead request that interested parties provide at the beginning of their briefs a public, executive summary for each issue raised in their briefs.²² Further, we request that interested parties limit their public executive summary of each issue to no more than 450 words, not including citations. We intend to use the public executive summaries as the basis of the comment summaries included in the Issues and Decision Memorandum that will accompany the final results in these CCRs. We request that interested parties include footnotes for relevant citations in the public executive summary of each issue. Note that Commerce has amended certain of its requirements pertaining to the service of documents in 19 CFR 351.303(f).²³ An electronically filed document must be received successfully in its entirety by ACCESS by 5:00 p.m. Eastern Time on the day on which it is due.

²² We use the term “issue” here to describe an argument that Commerce would normally address in a comment of the Issues and Decision Memorandum.

²³ See APO and Service Final Rule.

Pursuant to 19 CFR 351.310(c), any interested party may request a hearing within 14 days of publication of this notice in the Federal Register.²⁴ Hearing requests should contain the following information: (1) the party's name, address, and telephone number; (2) the number of participants; and (3) a list of the issues to be discussed. Oral presentations at the hearing will be limited to issues raised in the briefs.²⁵ If a request for a hearing is made, Commerce intends to hold the hearing at a time and date to be determined. Parties should confirm the date and the time of the hearing two days before the scheduled date.

²⁴ Commerce is exercising its discretion under 19 CFR 351.310(c) to alter the time limit for requesting a hearing.

²⁵ See 19 CFR 351.310(c).

Final Results of CCRs

Unless extended, consistent with 19 CFR 351.216(e), Commerce intends to issue the final results of these CCRs no later than 270 days after the date on which these reviews were initiated or 45 days if all parties agree to the preliminary results. If, in the final results of these reviews, we continue to determine that changed circumstances warrant the revocation of the Orders, in part, we will instruct U.S. Customs and Border Protection (CBP) to liquidate without regard to antidumping or countervailing duties, and to refund any estimated antidumping and countervailing duties deposited on all unliquidated entries of the merchandise entered, or withdrawn from warehouse, for consumption on or after January 1, 2022, that are covered by the revocation in part. The current requirement for cash deposits of estimated antidumping or countervailing duties on all entries of subject merchandise will continue unless they are modified pursuant to the final results of these changed CCRs.

Notification to Interested Parties

This notice of initiation and preliminary results is published in accordance with section 751(b)(1) of the Act, 19 CFR 351.216(b)), and 19 CFR 351.221(c)(3)(ii).

Dated: October 7, 2024.
Ryan Majerus,
Deputy Assistant Secretary for Policy and Negotiations, performing the non-exclusive functions and duties of the Assistant Secretary for Enforcement and Compliance.

Appendix I

The scope of the antidumping duty order covers alloy and certain carbon steel threaded rod. Alloy and certain carbon steel threaded rod are certain threaded rod, bar, or studs, of carbon or alloy steel, having a solid, circular cross section of any diameter, in any straight length. Alloy and certain carbon steel threaded rod are normally drawn, cold-rolled, threaded, and straightened, or it may be hot-rolled. In addition, the alloy and certain carbon steel threaded rod, bar, or studs subject to this order are non-headed and threaded along greater than 25 percent of their total actual length. A variety of finishes or coatings, such as plain oil finish as a temporary rust protectant, zinc coating (i.e., galvanized, whether by electroplating or hot-dipping), paint, and other similar finishes and coatings, may be applied to the merchandise.

Alloy steel threaded rod is normally produced to American Society for Testing and Materials (ASTM) specifications A193 B7/B7m, A193 B16, A320 L7/L7m, A320 L43, A354 BC and BD, and F1554 Grade 105. Other specifications are Society of Automotive Engineers (SAE) specification 1429 grades 5 and 8, International Organization for Standardization (ISO) specification 898 class 8.8 and 10.9, and American Petroleum Institute (API) specification 20E. Certain carbon steel threaded rod is normally produced to ASTM specification A449. All steel threaded rod meeting the physical description set forth above is covered by the scope of this order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of the order if performed in the country of manufacture of the threaded rod.

Alloy and certain carbon steel threaded rod are also included in the scope of this order whether or not imported attached to, or in conjunction with, other parts and accessories such as nuts and washers. If carbon and alloy steel threaded rod are imported attached to, or in conjunction with, such non-subject merchandise, only the threaded rod is included in the scope.

Excluded from the scope of this order are: (1) Threaded rod, bar, or studs which are threaded only on one or both ends and the threading covers 25 percent or less of the total actual length; and (2) stainless steel threaded rod, defined as steel threaded rod containing, by weight, 1.2 percent or less of carbon and 10.5 percent or more of chromium, with or without other elements.

Excluded from the scope of the antidumping order on steel threaded rod from the People's Republic of China is any merchandise covered by the existing antidumping order on certain steel threaded rod from the People's Republic of China. See Certain Steel Threaded Rod from the People's Republic of China: Notice of Antidumping Duty Order, 74 FR 17154 (April 14, 2009).

Specifically excluded from the scope of this order is threaded rod that is imported as part of a package of hardware in conjunction with a ready-to-assemble piece of furniture.

Alloy and certain carbon steel threaded rod are currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

Appendix II

The scope of the countervailing duty order covers carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to this order are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A320 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of this order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of this order if performed in the country of manufacture of the threaded rod.

Carbon and alloy steel threaded rod are also included in the scope of this order whether or not imported attached to, or in conjunction with, other parts and accessories such as nuts and washers. If carbon and alloy steel threaded rod are imported attached to, or in conjunction with, such non-subject merchandise, only the threaded rod is included in the scope.

Excluded from the scope of this order are: (1) Threaded rod, bar, or studs which are threaded only on one or both ends and the threading covers 25 percent or less of the total actual length; and (2) stainless steel threaded rod, defined as steel threaded rod containing, by weight, 1.2 percent or less of carbon and 10.5 percent or more of chromium, with or without other elements.

Excluded from the scope of the antidumping order on steel threaded rod from the People's Republic of China is any merchandise covered by the existing antidumping order on certain steel threaded rod from the People's Republic of China. See Certain Steel Threaded Rod from the People's Republic of China: Notice of Antidumping Duty Order, 74 FR 17154 (April 14, 2009).

Specifically excluded from the scope of this order is threaded rod that is imported as part of a package of hardware in conjunction with a ready-to-assemble piece of furniture.

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2024-23697 Filed 10-11-24; 8:45 am]

BILLING CODE 3510-DS-P